DEPARTMENT OF COMMERCE

National Oceanic and Atmospheric Administration

50 CFR Part 660

[Docket No.; 000906253-0253-01; I.D. 061500E]

RIN 0648-AL51

Fisheries off West Coast States and in the Western Pacific; West Coast Salmon Fisheries; Amendment 14

AGENCY: National Marine Fisheries Service (NMFS), National Oceanic and Atmospheric Administration (NOAA), Commerce.

ACTION: Proposed rule; request for comments.

SUMMARY: NMFS proposes regulations to implement portions of Amendment 14 to the Fishery Management Plan for Commercial and Recreational Salmon Fisheries off the Coasts of Washington, Oregon, and California (Salmon FMP).

Amendment 14, which was submitted by the Pacific Fishery Management Council (Council) on June 12, 2000, to the Secretary of Commerce (Secretary) for review and approval, brings the Salmon FMP into compliance with the Sustainable Fisheries Act’s (SFA) 1996 amendments to the Magnuson-Stevens Fishery Conservation and Management Act (Magnuson-Stevens Act). Amendment 14 includes designation of essential fish habitat (EFH) and new requirements to reduce bycatch, prevent overfishing, and rebuild overfished stocks. This proposed rule to implement Amendment 14 would make minor changes to language regarding escapement and management goals; implement a new recreational allocation to the Port of La Push and adjust the Neah Bay allocation accordingly; add preseason flexibility for recreational port allocations north of Cape Falcon; and implement preseason flexibility in setting recreational port allocation or recreational and commercial allocations North of Cape Falcon to take advantage of selective fishing opportunities for marked hatchery fish.

DATES: Comments must be submitted in writing by December 4, 2000.

ADDRESSES: Send comments to Donna Darm, Acting Regional Administrator, Northwest Region, NMFS, 7600 Sand Point Way N.E., Seattle, WA 98115-0070, fax: 206-526-6376; or to Rebecca Lent, Regional Administrator, Southwest Region, NMFS, 501 West Ocean Boulevard, Suite 4200, Long Beach, CA 90802-4213, fax: 562-980-4018. Send comments regarding any ambiguity or unnecessary complexity arising from the language used in this rule to Donna Darm or Rebecca Lent. Comments will not be accepted if submitted via email or Internet.

Copies of Amendments 14 and the final supplemental environmental impact statement (FSEIS)/regulatory impact review (RIR)/initial regulatory flexibility analysis (IRFA), along with the appendices and the Review of 1999 Ocean Salmon Fisheries are available from Dr. Donald O. McIsaac, Executive Director, Pacific Fishery Management Council, 2130 SW Fifth Ave., Suite 224, Portland, OR 97201.

FOR FURTHER INFORMATION CONTACT: Christopher L. Wright at 206- 526-6140, Svein Fougner at 562-980-4040, or Dr. Donald O. McIsaac at 503-326-6352.

SUPPLEMENTARY INFORMATION:

Background

The Secretary approved the Salmon FMP under the Magnuson-Stevens Fishery Conservation and Management Act (Magnuson-Stevens Act), 16 U.S.C. 1801 et seq., in 1978. The Council has amended the Salmon FMP 13 times since 1978. The regulations are codified at 50 CFR part 660, subpart H. The Salmon FMP was amended annually from 1979 to 1983; however, in 1984, a framework amendment was implemented that provided the mechanism for making preseason and inseason adjustments in the regulations without annual amendments.

The Council prepared Amendment 14 to the Salmon FMP and submitted it on June 12, 2000, for Secretarial review. NMFS published a notice of availability for Amendment 14 in the Federal Register on June 27, 2000 (65 FR 39584), announcing a 60-day public comment period, which ended on August 28, 2000. NMFS approved Amendment 14 on September 27, 2000.

Amendment 14 has multiple parts. The major parts of the amendment revise the Salmon FMP to bring it into compliance with the 1996 SFA amendments to the Magnuson-Stevens Act; establish a new recreational allocation for the Port of La Push, WA, and add flexibility to deviate from specified recreational Port allocations with the agreement of representatives from the affected Ports; and establish preseason flexibility to deviate from commercial and recreational gear allocations and recreational port allocations North of Cape Falcon, OR in order to access marked hatchery salmon in selective fisheries.

With the approval by the Secretary, Amendment 14 revises the Salmon FMP to bring it into compliance with the 1996 amendments to the Magnuson-Stevens Act. The most significant changes include a new definition of optimum yield (OY); a bycatch definition and new requirements to reduce bycatch; new requirements designed to prevent overfishing and rebuild overfished stocks; and the designation of EFH, with a discussion of threats to EFH and recommended measures to conserve and enhance EFH. A new section in chapter 1 entitled “What this Plan Covers” was added to the Salmon FMP to provide a clear description of management actions included in the document. In addition, the amendment provides information on fishery-specific stock impacts and updates the fishery description to reference new appendices.

Only some of the changes made by Amendment 14 are intended to be codified in the regulations. Specifically, this proposed rule would make minor changes to language regarding escapement and management goals; implement a new recreational allocation to the Port of La Push and adjust the Neah Bay allocation accordingly; add preseason flexibility for recreational port allocations North of Cape Falcon; and implement preseason flexibility in setting recreational port allocation or recreational and commercial allocations North of Cape Falcon to take advantage of selective fishing opportunities.

The former Escapement and Management goals section, § 660.410(a), was changed to a new Conservation Objectives section. The SFA amendments require the Council to manage each year to achieve the maximum sustained yield (MSY) or maximum sustainable production (MSP), MSY proxy, or rebuilding schedule. The control rule triggers an overfishing concern when individual stocks fail to meet conservation objectives for three consecutive years (§ 660.410(b)(1)). Conservation objectives are summarized in Table 3-1 of the Salmon FMP.

Amendment 14 establishes a recreational allocation for the La Push Port area separate from the Neah Bay port area, and the Annual Actions section (660.408(c)(v)) would be modified accordingly. The La Push subarea allocation would be set at 5.2 percent, which is approximately 20 percent of the former combined Neah Bay/La Push allocation. This portion is equal to the level provided to La Push during the annual preseason process beginning in 1990. In addition, during years when there is an Area 4B add-on fishery inside Washington internal waters (which benefits only Neah Bay). Twenty-five percent of the numerical value of that fishery shall be added to the recreational allowable ocean harvest north of Leadbetter Point prior to applying the sharing percentages for Westport and La Push. The increase to Westport and La Push will be subtracted from the Neah Bay ocean share to maintain the same total harvest allocation north of Leadbetter Point. Therefore, La Push would receive 2.6 percent of the basic coho allocation plus 1.2 percent of the Area 4B add-on.

Section 660.408(c)(v)(A) would be modified to allow flexibility to deviate from Salmon FMP subarea quotas in order to meet recreational fishery objectives, if those measures are agreed to by representatives of the affected ports. In addition, the regulation would establish a Council process to deviate from the non-Indian recreational and/or commercial allocations north of Cape Falcon to selectively harvest hatchery-produced coho salmon, while not increasing impacts to natural stocks.

Minor changes to the regulatory language in 50 CFR part 660 necessary to implement Amendment 14 would also be made.

Classification

NMFS has determined that Amendment 14 is consistent with the national standards and other provisions of the Magnuson-Stevens Act and other applicable laws.

The Council prepared an Initial Regulatory Flexibility Analysis (IRFA) describing the economic impacts to small entities of all the alternatives considered in the this proposed rule. A copy of the analysis is available from the Council (see ADDRESSES). A summary of the analysis follows:

The proposed rule would make five changes to the existing regulations. Only items 2-5 have regulatory effects that are subject to analysis under Executive Order 12866 and the Regulatory Flexibility Act (RFA). The regulatory changes include:

1. Minor changes to the description of escapement and management goals.

2. Providing a specific recreational allocation to the Port of La Push.

3. Adjusting the recreational port allocations when there is an Area 4B add-on fishery to account for the specific allocation to the Port of La Push.

4. Providing preseason flexibility for recreational port allocations to allow for deviation from subarea allocations to meet recreational objectives, if agreed to by representatives of affected ports.

5. Adding preseason flexibility for setting recreational port allocations, or recreational and commercial allocations North of Cape Falcon, to selectively target hatchery-origin stocks.

All of these changes address management of coho and chinook fisheries that operate in ocean waters north of Cape Falcon, OR to the U.S.-Canada Border (Cape Falcon is south of the Columbia River mouth, between the Ports of Garibaldi and Astoria, OR). Therefore, this proposed rule directly affects the non-tribal commercial troll fisheries and recreational fisheries in these waters. These fisheries are a component of the North of Cape Falcon Forum, in which Federal, state, and Tribal co-managers work directly with commercial and recreational harvesting groups to resolve management and allocation issues involving both ocean and inside salmon fisheries in the region. Inside fisheries occur in Puget Sound, Washington coastal rivers and estuaries, and the Columbia River. Therefore, the Council’s decisions concerning these non-tribal fisheries indirectly affect Columbia River, Willapa Bay, and Grays Harbor gillnet fisheries; Puget Sound, Washington coastal and Columbia River tribal fisheries; and Puget sound non-tribal commercial and recreational fisheries. In addition to coho and chinook, these inside fisheries also harvest chum, sockeye, and pink salmon. Management of West Coast ocean salmon fisheries is also subject to international catch sharing agreements because West Coast salmon stocks are among those harvested in Alaska and Canadian salmon fisheries. Salmon harvest allocations and regulations also affect salmon processors and wholesalers, as well as associated support industries including tourism, hotels, bait and tackle shops, and marinas.

The economic effects that these proposed regulations would have are described in the Pacific Fishery Management Council’s “Amendment 14 to the Pacific Coast Salmon Plan (May 2000)” and supporting documents including “Appendix B - Description of the Ocean Salmon Fishery and Its Social and Economic Characteristics (August 1999),” “Review of 1999 Ocean Salmon Fisheries (February 2000) and “Amendment 14 to the Pacific Coast Salmon Plan (1997) [Errata].” A summary of the economic impacts of this proposed rule follows:

A fish harvesting or hatchery business is considered a small business if it is independently owned and operated, it does not dominate its field of operations, and if it has annual receipts that are not in excess of $3 million. For charter/party boats, a small business is one with annual receipts that are not in excess of $5 million. The proposed changes to existing salmon regulations directly affect the operations of non-tribal commercial ocean troll and charter boat vessels. Although total salmon and non-salmon fishery revenue is not discussed, for commercial ocean troll and charter boat sectors the economics of this industry suggest that they are considered small entities under the RFA thresholds for a single firm.

During 1997, the north of Cape Falcon ocean recreational salmon harvest was 31,200 coho and the non-tribal commercial harvest was 0 coho and 6,400 chinook. Ocean recreational private and charter boat trips numbered approximately 102,000 in 1997, and the 57 vessels that participated in the ocean commercial troll fishery landed $1.2 million of salmon. Approximately 82 charter boats operated out of the major ports, including Neah Bay, La Push, Westport, Ilwaco, and Astoria, associated with north of Cape Falcon ocean fisheries. These charter vessels undertook a total of approximately 14,000 angler trips in 1997, and fished for salmon, tuna, bottomfish, sturgeon. About 70 of these vessels are considered salmon charter boats. The combined regional income produced by the north of Cape Falcon salmon fisheries was approximately $2.1 million in 1997. Approximately $200,000 of that amount was generated by commercial trolling, and recreational charter and private boat trips generated the remainder.

The economic effects of the proposed regulations are expected to be generally positive. The proposed regulatory changes are intended to reallocate fish among small entities with the intent of increasing overall harvest. The Port of La Push regulations formalize practices that have been employed for a number of years; La Push would receive 2.6 percent of the basic coho allocation plus 1.2 percent of the Area 4B add-on. Flexibility to deviate from subarea allocations in order to meet recreational objectives is expected to result in only positive economic effects because such management decisions require approval by representatives of affected ports. Flexibility in setting preseason recreational port allocations or recreational and commercial allocations north of Cape Falcon for selective fishing on hatchery stock coho would likely lead to positive economic effects on ocean fisheries because such measures result in increased fishing opportunities when such fish are available. These selective fisheries are open primarily in August and September, although the Council may consider opening selective fisheries at other times. Compared to the original allocation scheme the selective fishery regime does not increase the mortality of natural stocks. Other allocation objectives (i.e., treaty, Indian, or ocean and inside allocations) are addressed during the negotiations in the North of Cape of Falcon Forum.

The general effects of the proposed regulatory changes are to provide flexibility to the Council’s decision making processes and allow increased fish harvest levels, when possible, through pre-season allocation setting procedures. User groups (non-tribal ocean troll and ocean recreational fisheries) participate directly in the consultative processes, so it is unlikely that any single group will suffer economically while some or all user groups may benefit. The consultation process is designed to provide the maximum economic benefits to all user groups.

The intended effect of this proposed rule is to employ management measures that minimize impacts to species, stocks, or size/age classes of concern, while maximizing access to harvestable fish. This is accomplished through management measures including gear restrictions, time/area closures, and catch or retention restrictions that allow fishermen to harvest marked hatchery salmon and release natural-origin fish.

Analysis of 1996 fishery information shows that selective ocean coho harvest could be increased by over 300 percent without impacting natural stocks. Without such selective fisheries, total salmon harvest would have to be sharply reduced to protect depressed natural stocks. These procedures also allow managers to make in-season trades between ocean fisheries and other fisheries, and between user groups in order to increase harvest opportunities for all user groups.

Insufficient data preclude a quantitative analysis; however, the Council’s qualitative cost-benefit summary in support of Executive Order 12866 assesses the direct and indirect economic effects of the proposed regulatory changes. This analysis shows that these changes would allow increased numbers of recreational and charter boat salmon fishing trips; however, recreational catch rates and retained catch rates would decline. The ocean troll fishery quotas would not be directly reduced as a result of proposed regulatory changes, but cost per unit of harvest may increase because of the selective fishery regulations. Indirect economic effects on inside fisheries may be positive or negative, depending on which selective fisheries are employed in the ocean and inside fisheries. The State of Washington has adopted selective fishing practices for inside coho fisheries. Selective practices for inside chinook fisheries are still under development because of the difficulty in modeling selective fishery impacts on chinook stocks. However, ocean harvests of inside chinook stocks are minimal and managing such stocks will be primarily driven by Endangered Species Act (ESA) requirements and State of Washington decisions concerning the future of its fisheries.

In developing these regulations the Council tried to minimize impacts on small entities. For example, the Council was aware of the allocative effects of selective fisheries on small entities participating in ocean fisheries, and developed regulations to enhance selective fishing options in August and September. This limits the amount of reallocation between inside and outside fisheries and therefore reduces impacts on such small entities. The public is invited to comment on the IRFA and the economic analysis, whether there are additional economic impacts that should be considered, and whether there are ways to reduce any adverse effects on small entities.

The proposed rule has been determined to be not significant for the purposes of Executive Order 12866.

The NMFS Northwest Region has completed a Section 7 informal consultation under the Endangered Species Act (ESA) on the effects of Amendment 14 on listed salmon stocks. Amendment 14 does not by itself authorize any fishing or other activity that would result in the take of listed fish. It modifies certain aspects of the current Salmon FMP but in no way affects the existing Salmon FMP requirements that management measures comply with NMFS ESA consultation standards for listed species. Three of the Amendment 14 components (overfishing, EFH, and bycatch) will result in neutral effects or in more conservative management of non-listed salmon stocks, and should therefore provide greater protection to natural stocks of listed and non-listed species. While there are some uncertainties regarding the effects of selective fisheries on naturally spawning stocks, NMFS retains the authority and responsibility for ensuring that annual management measures developed under the Salmon FMP comply with ESA consultation standards, and that analysis of these measures is based on the best available science. The remaining elements of the amendment, including recreational allocation, definition of OY, and various editorial changes will have no effect on management of listed stocks.

Based on these considerations, NMFS concluded that Amendment 14 and its implementing regulations are not likely to adversely affect any of the salmon stocks presently listed under ESA or their critical habitat.

The Council prepared an FSEIS for Amendment 14. The FSEIS has been incorporated in the Amendment 14 document and may be obtained from the Council (see ADDRESSES). A notice of availability of the FSEIS was published on August 11, 2000 (65 FR 49237).

The President has directed Federal agencies to use plain language in their communications with the public, including regulations. To comply with this directive, we seek public comment on any ambiguity or unnecessary complexity arising from the language used in this rule (see ADDRESSES).

List of Subjects in 50 CFR Part 660

Administrative practice and procedure, American Samoa, Fisheries, Fishing, Guam, Hawaiian Natives, Indians, Northern Mariana Islands, Reporting and recordkeeping requirements.

Dated: October 13, 2000.
Clarence Pautzke,
Acting Assistant Administrator, National Marine Fisheries Service.

For the reasons set out in the preamble, NMFS proposes to amend 50 CFR part 660 as follows:

PART 660— FISHERIES OFF WEST COAST STATES AND IN THE WESTERN PACIFIC

1. The authority citation for part 660 continues to read as follows:

Authority: 16 U.S.C. 1801 et seq.

2. In § 660.402, the definition “Pacific Coast Salmon Plan” is added in alphabetical order to read as follows:

§ 660.402 Definitions.

* * * * *

Pacific Coast Salmon Plan (PCSP or Salmon FMP) means the Fishery Management Plan, as amended, for commercial and recreational ocean salmon fisheries in the Exclusive Economic Zone (EEZ)(3 to 200 nautical miles offshore) off Washington, Oregon, and California. The Salmon FMP was first developed by the Pacific Fishery Management Council (PFMC or Council) and approved by the Secretary in 1978. The Salmon FMP was amended on October 31, 1984, to establish a framework process to develop and implement fishery management actions. Other names commonly used include: Pacific Coast Salmon Fishery Management Plan, West Coast Salmon Plan, West Coast Salmon Fishery Management Plan.

* * * * *

3. In § 660.408, the first two sentences in paragraph (c)(1)(ii), paragraph (c)(1)(v), paragraph (c)(1)(v)(A), and the last sentence in paragraph (c)(1)(vi) are revised; paragraph (c)(1)(viii) is redesignated as paragraph (c)(1)(ix), and paragraph (c)(1)(ix) is redesignated as paragraph (c)(1)(x) and a new paragraph (c)(1)(viii) is added to read as follows:

§ 660.408 Annual actions.

* * * * *

(c) * * *

(1) * * *

(ii) Deviations from allocation schedule. The initial allocation may be modified annually in accordance with paragraphs (c)(1)(iii) through (viii) of this section. These deviations from the allocation schedule provide flexibility to account for the dynamic nature of the fisheries and better achieve the allocation objectives and fishery allocation priorities in paragraphs (c)(1)(ix) and (x) of this section. * * *

* * * * *

(v) Recreational allocation. The recreational allowable ocean harvest of chinook and coho derived during the preseason allocation process will be distributed among the four major recreational subareas as described in the coho and chinook distribution in this section. The Council may deviate from subarea quotas to meet recreational season objectives based on agreement of representatives of the affected ports and/or in accordance with Section 6.5.3.2 of the Pacific Coast Salmon Plan with regard to certain selective fisheries. Additionally, based upon the recommendation of the recreational Salmon Advisory Subpanel representatives for the area north of Cape Falcon, the Council will include criteria in its preseason salmon management recommendations to guide any inseason transfer of coho among the recreational subareas to meet recreational season duration objectives.

(A) Coho distribution. The preseason recreational allowable ocean harvest of coho north of Cape Falcon will be distributed to provide 50 percent to the area north of Leadbetter Point and 50 percent to the area south of Leadbetter Point. In years with no fishery in Washington State management area 4B, the distribution of coho north of Leadbetter Point will be divided to provide 74 percent to the subarea between Leadbetter Point and the Queets River (Westport), 5.2 percent to the subarea between Queets River and Cape Flattery (La Push), and 20.8 percent to the area north of the Queets River (Neah Bay). In years when there is an Area 4B (Neah Bay) fishery under state management, 25 percent of the numerical value of that fishery shall be added to the recreational allowable ocean harvest north of Leadbetter Point prior to applying the sharing percentages for Westport and La Push. The increase to Westport and La Push will be subtracted from the Neah Bay ocean share to maintain the same total harvest allocation north of Leadbetter Point. Each of the four recreational port area allocations will be rounded to the nearest hundred fish, with the largest quotas rounded downward if necessary to sum to the preseason recreational allowable ocean harvest of coho north of Cape Falcon.

* * * * *

(vi) Inseason trades and transfers. * * * Inseason trades or transfers may vary from the guideline ratio of four coho to one chinook to meet the allocation objectives in paragraph (c)(1)(ix) of this section.

* * * * *

(viii) Selective Fisheries. Deviations from the initial gear and port area allocations may be allowed to implement selective fisheries for marked salmon stocks as long as the deviations are within the constraints and process specified in Section 6.5.3.2 of the Pacific Coast Salmon Plan.

* * * * *

4. In § 660.410, the section heading, paragraphs (a) and (b)(1) are revised to read as follows:

§ 660.410 Conservation objectives.

(a) The conservation objectives are summarized in Table 3-1 of the Pacific Coast Salmon Plan.

(b) * * *

(1) A comprehensive technical review of the best scientific information available provides conclusive evidence that, in the view of the Council, the Scientific and Statistical Committee, and the Salmon Technical Team, justifies modification of a conservation objective; except that the 35,000 natural spawner floor for Klamath River fall chinook may only be changed by FMP amendment.

* * * * *

[FR Doc. 00-26935 Filed 10-19-00; 8:45 am]

BILLING CODE: 3510-22 -S